COMMITTEE FOR PURCHASE FROM PEOPLE WHO ARE BLIND OR SEVERELY DISABLED

Public Meeting

AGENCY: Committee for Purchase From People Who Are Blind or Severely Disabled.

ACTION: Notice of public meeting.

DATES: January 28, 2026, from 2 p.m. to 4 p.m. ET.

ADDRESSES: The meeting will be accessible to the public virtually via Zoom webinar.

FOR FURTHER INFORMATION CONTACT: Angela Phifer, 355 E Street SW, Suite 325, Washington, DC 20024; (703) 798-5873; CMTEFedReg@AbilityOne.gov.

SUPPLEMENTARY INFORMATION:

Background: The Committee for Purchase From People Who Are Blind or Severely Disabled is an independent Federal agency operating as the U.S. AbilityOne Commission. It oversees the AbilityOne Program, which provides employment opportunities through Federal contracts for people who are blind or have significant disabilities in the manufacture and delivery of products and services to the Federal Government. The Javits-Wagner-O'Day Act (41 U.S.C. chapter 85) authorizes the contracts.

Registration: Attendees not requesting speaking time should register not later than January 27, 2026. Attendees requesting speaking time must register not later than January 20, 2026, and use the comment fields in the registration form to specify the intended speaking topic(s). The registration link will be available on the Commission's home page, www.abilityone.gov, under News and Events.

Commission Statement: This regular quarterly public meeting will include updates from the Commission Interim Chairperson, Executive Director, and Acting Inspector General.

Public Participation: The public engagement session will explore nontraditional and emerging service capabilities, including in the professional services category, that the Commission and AbilityOne Program participants might explore to create new employment opportunities for Americans who are blind or have significant disabilities. For the purposes of this session, emerging service capabilities include (1) a new or significantly improved ability to deliver a service, and/or (2) a nascent capability that is currently being tested or employed in the AbilityOne Program. Speakers are also invited to answer the question, “How can the AbilityOne Program identify and prepare for the service jobs of the future?”

The Commission looks forward to receiving comments and suggestions on the public engagement topics. During registration, you may choose to submit comments, or you may request speaking time at the meeting. The Commission may invite some attendees who submit advance comments to discuss their comments during the meeting. Comments submitted will be reviewed by staff and the Commission members before the meeting. Comments posted in the chat box during the meeting will be shared with the Commission members after the meeting. The Commission is not subject to the requirements of 5 U.S.C. 552(b); however, the Commission published this notice to encourage the broadest possible participation in its meeting.

Personal Information: Speakers should not include any information that they do not want publicly disclosed.

Michael R. Jurkowski,
Director, Business Operations.

[FR Doc. 2026-00656 Filed 1-14-26; 8:45 am]

BILLING CODE 6353-01-P